DEPARTMENT OF COMMERCE

National Oceanic and Atmospheric Administration

Agency Information Collection Activities; Submission to the Office of Management and Budget (OMB) for Review and Approval; Comment Request; StormReady, TsunamiReady, TsunamiReady Supporter, and StormReady Supporter Application Forms

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 21, 2021 (86 FR 20662) during a 60-day comment period. This notice allows for an additional 30 days for public comments.

Agency: National Oceanic and Atmospheric Administration, Commerce.

Title: StormReady, TsunamiReady, TsunamiReady Supporter, and StormReady Supporter Application Forms.

OMB Control Number: 0648-0419.

Form Number(s): None.

Type of Request: Regular submission (extension of a current information collection).

Number of Respondents: 285.

Average Hours per Response: StormReady/TsunamiReady applications: 2 hours; StormReady/TsunamiReady Supporter applications: 1 hour.

Total Annual Burden Hours: 525.

Needs and Uses: This is a request for extension of an existing information collection.

The National Weather Service (NWS) established the StormReady program in 1999 and the TsunamiReady program in 2002 to help communities, counties, Indian nations, universities and colleges, military bases, government sites, commercial enterprises and other groups reduce the potential for weather-related and tsunami hazards through advanced planning, education and awareness. The program encourages communities to take a new, proactive approach to improving local hazardous weather operations by providing emergency managers with clear-cut guidelines on how to improve their hazardous weather operations. By participating in this program, local agencies earn recognition for their jurisdiction by meeting guidelines established by the NWS in partnership with federal, state, and local emergency management professionals. Information and details on the StormReady and TsunamiReady programs are located at https://www.weather.gov/stormready/ and https://www.weather.gov/tsunamiready/.

A Supporter is an organization, business, facility, or local government entity actively engaged in weather safety and preparedness that is unable to meet all the requirements of the full StormReady or TsunamiReady program. Sites may be eligible based on the bylaws of the local NWS StormReady Advisory Board and endorsement of local emergency management. A local StormReady Advisory Board has final approval for Supporter designation.

StormReady/TsunamiReady are voluntary programs that provide guidance and incentive to officials interested in improving their hazardous weather operations. The government will use the information collected by the StormReady/TsunamiReady application to determine whether a community has met all of the guidelines to receive StormReady/TsunamiReady recognition.

Affected Public: Business or other for profit organizations; not-for-profit institutions.

Frequency: On occasion.

Respondent's Obligation: Voluntary.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0419.

Sheleen Dumas,
Department PRA Clearance Officer, Office of the Chief Information Officer, Commerce Department.

[FR Doc. 2021-20796 Filed 9-23-21; 8:45 am]

BILLING CODE 3510-KE-P